DEPARTMENT OF COMMERCE

National Oceanic and Atmospheric Administration

Submission for OMB Review; Comment Request

The Department of Commerce will submit to the Office of Management and Budget (OMB) for clearance the following proposal for collection of information under the provisions of the Paperwork Reduction Act.

Agency: National Oceanic and Atmospheric Administration (NOAA).

Title: STORMREADY® TSUMANIREADY®, TSUNAMIREADY® SUPPORTER, AND STORMREADY® SUPPORTER APPLICATION FORMS.

OMB Control Number: 0648-0419.

Form Number(s): None.

Type of Request: Regular (extension of a currently approved information collection).

Number of Respondents: 285.

Average Hours per Response: Full applications, 2 hours; supporter applications, 1 hour.

Burden Hours: 525.

Needs and Uses: This request is for extension of a currently approved information collection.

The National Weather Service (NWS) established the StormReady program in 1999 and the TsunamiReady program in 2002 to help counties, cities and towns implement procedures to reduce the potential for weather-related and tsunami hazards. By participating in this program, local agencies earn recognition for their jurisdiction by meeting guidelines established by the NWS in partnership with federal, state, and local emergency management professionals. Information and details on the StormReady and TsunamiReady programs are located at https://www.weather.gov/stormready/ and https://www.weather.gov/tsunamiready/.

Many businesses, schools, nonprofit organizations and other non-governmental entities establish severe weather safety plans and actively promote severe weather safety awareness activities. The NWS established the StormReady and TsunamiReady Supporter programs to recognize those entities do not have the resources necessary to fulfill all the full StormReady or TsunamiReady eligibility but actively promote the principles of the program.

Affected Public: Business or other for-profit organization; not-for-profit institutions; state, local or tribal government.

Frequency: Every three years or annually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: April 24, 2018.
Sarah Brabson,
NOAA PRA Clearance Officer.

[FR Doc. 2018-08939 Filed 4-26-18; 8:45 am]

BILLING CODE 3510-22-P